DEPARTMENT OF HEALTH AND HUMAN SERVICES

Centers for Disease Control and Prevention

[30DAY-30-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

National Public Health Performance Standards Program Local Public Health System Assessment—New—Public Health Practice Program Office (PHPPO), Centers for Disease Control and Prevention (CDC).

Since 1998, the CDC National Public Health Performance Standards Program has convened workgroups with the National Association of County and City Health Officials (NACCHO), the Association of State and Territorial Health Officials (ASTHO), the National Association of Local Boards of Health NALBOH), the American Public Health Association (APHA), and the Public Health Foundation (PHF) to develop performance standards for public health systems based on the ten Essential Services of Public Health. In the fall of 2000, CDC conducted field tests with the local public health survey instruments in the States of Hawaii, Minnesota, and Mississippi.

CDC is now proposing to implement a voluntary data collection to assess the capacity of local public health systems to deliver the Essential Public Health Services. Electronic data submission will be the method of choice. If computer technology in local jurisdictions does not support electronic submission, hard-copy survey instruments will be available. Local jurisdictions using hard-copy survey instruments will receive assistance from State or local level field coordinators for web-based data entry.

Local health departments will respond to the survey on behalf of the collective body of representatives from the local public health system. An estimated 33 percent of local health departments will complete the local instrument in year one, 30 percent in year two and 25 percent in year three. The total burden hours are estimated to be 67,200.

Data collection period | Respondents | Responses per respondent | Average burden response (in hrs.)
Year 1 | 875 | 1 | 24
Year 2 | 1167 | 1 | 24
Year 3 | 875 | 1 | 24

Dated: May 29, 2002.
Nancy Cheal,
Acting Associate Director for Policy, Planning, and Evaluation, Centers for Disease Control and Prevention.

[FR Doc. 02-14127 Filed 6-5-02; 8:45 am]

BILLING CODE 4163-18-P